DEPARTMENT OF HOMELAND SECURITY

Transportation Security Administration

[Docket No. TSA-2005-20937]

Aviation Security Advisory Committee Meeting

AGENCY: Transportation Security Administration (TSA), DHS.

ACTION: Notice of meeting.

SUMMARY: The Aviation Security Advisory Committee (ASAC) is meeting in open session. The meeting will be held by telephonic conference call.

DATES: The meeting will take place on April 28, 2005, from 12 p.m. to 1:30 p.m., local time in Washington, DC.

ADDRESSES: The meeting will be held by telephonic conference call. Dial-in instructions are set forth below under the heading Supplementary Information.

FOR FURTHER INFORMATION CONTACT: Joseph Corrao, Office of Transportation Security Policy (TSA-9), TSA Headquarters, 601 S. 12th Street, Arlington, VA, 22202; telephone 571-227-2980, e-mail joseph.corrao@dhs.gov.

SUPPLEMENTARY INFORMATION: Notice of this meeting is given under the Federal Advisory Committee Act (FACA), Pub. L. 92-463, as amended, (5 U.S.C. App 1 et seq). The ASAC will meet to receive a presentation of the report and recommendations of the Freight Assessment System (FAS) working group. FAS would analyze information about shipments of air cargo in order to identify elevated risk air cargo and enable targeted screening of 100% of that cargo prior to loading it on an aircraft. This meeting, from 12 p.m. to 1:30 p.m., is open to the public but telephonic conferencing capacity is limited. Members of the public who wish to monitor the discussion may dial into this telephonic meeting by dialing (888) 809-8967. At the prompt, provide the conference code “ASAC” (pronounced “A-sack”). Parties calling from locations outside the United States may contact the person listed under the heading FOR FURTHER INFORMATION CONTACT, for international calling instructions.

The working group's report may be obtained from the following Web site: http://www.tsa.gov/interweb/assetlibrary/ASAC_FAS_WG_Recommendations_121404.pdf, or by contacting the person listed under the heading FOR FURTHER INFORMATION CONTACT.

Members of the public must make advance arrangements to present oral statements at this ASAC meeting. Written statements may be presented to the committee by providing copies of them to the Chair prior to the meeting. Anyone in need of assistance or a reasonable accommodation for the meeting should contact the person listed under the heading FOR FURTHER INFORMATION CONTACT. Public Comments: You may submit public comments, identified by Docket No. TSA 2005-20937, by one of the following methods:

• DOT Docket: http://dms.dot.gov. Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

• Federal eRulemaking Portal: http://www.regulations.gov.

• E-mail: e-mail joseph.corrao@dhs.gov. When submitting comments electronically, please include TSA-2005-20937 in the subject line of the message.

• Mail or Hand Delivery: Address or deliver your written, signed comments to the Docket Management System, U.S. Department of Transportation, Room Plaza 401, 400 Seventh Street, SW., Washington, DC 20590-0001; Fax: 202-493-2251. This mailing address may also be used for paper, disk, or CD-ROM submissions.

Issued in Arlington, Virginia, on April 7, 2005.
Chad Wolf,
Assistant Administrator for Transportation Security Policy.

[FR Doc. 05-7391 Filed 4-12-05; 8:45 am]

BILLING CODE 4910-62-P